ENVIRONMENTAL PROTECTION AGENCY

[EPA-HQ-OAR-2015-0202; FRL-9933-72-OEI]

Information Collection Request Submitted to OMB for Review and Approval; Comment Request; Recordkeeping and Reporting Related to E15

AGENCY: Environmental Protection Agency (EPA).

ACTION: Notice.

SUMMARY: The Environmental Protection Agency has submitted an information collection request (ICR), “Recordkeeping and Reporting Related to E15” (EPA ICR No. 2408.04, OMB Control No. 2060-0675) to the Office of Management and Budget (OMB) for review and approval in accordance with the Paperwork Reduction Act (44 U.S.C. 3501 et seq.). Public comments were previously requested via the Federal Register (80 FR 15595) on March 24, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 13, 2015.

ADDRESSES: Submit your comments, referencing Docket ID Number EPA-HQ-OAR-2015-0202, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Geanetta Heard, Fuel Compliance Center, 6406J, Environmental Protection Agency, 1200 Pennsylvania Ave. NW., Washington, DC 20460; telephone number: 202-343-9017 fax number: 202-565-2085 email address: heard.geanetta@epa.gov.

SUPPLEMENTARY INFORMATION: Supporting documents, which explain in detail the information that the EPA will be collecting, are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: Under the Clean Air Act (CAA), EPA granted partial waivers that allow gasoline containing greater than 10 volume percent (vol%) ethanol up to 15 vol% ethanol (E15) to be introduced into commerce for use in model year (MY) 2001 and newer light-duty motor vehicles, subject to certain conditions. EPA issued final rule establishing several measures to mitigate misfueling of other vehicles, engines and equipment with E15 and the potential emissions consequences of misfueling. The rule prohibits the use of gasoline containing more than 10 vol% ethanol in vehicles, engines and equipment that are not covered by the partial waiver decisions. The rule also requires all E15 gasoline fuel dispensers to have a specific label when a retail station or wholesale-purchaser consumer chooses to sell E15. In addition, the rule requires that product transfer documents (PTDs) specifying ethanol content and Reid Vapor Pressure (RVP) accompany the transfer of gasoline blended with ethanol, and a survey of retail stations to ensure compliance with these requirements. The rule also modifies the Reformulated Gasoline (RFG) program by updating the Complex Model to allow fuel manufacturers to certify batches of gasoline containing up to 15 vol% ethanol. This ICR supporting statement addresses associated recordkeeping and reporting items.

Respondent's obligation to respond: Mandatory (40 CFR part 80).

Estimated number of respondents: 2,103 (total).

Estimated number of responses: 44,000,103.

Frequency of response: On occasion.

Total estimated burden: 13,270 hours (per year). Burden is defined at 5 CFR 1320.03(b).

Total estimated cost: $ 1,340,292, which includes no annualized capital or operation & maintenance costs.

Changes in Estimates: We expect there will be a decrease in the total estimated respondents, responses and cost to the industry compared to the ICR currently approved by OMB. This change in burden is due to no longer requiring the programing of product transfer codes in this collection. The respondent universe decreased from 6,211 to 2,103, a difference of 4,108 members. The number of responses declined from 44,010,211 to 44,000,103, a difference of 10,108 reports. This reduced the industry burden hours from 37,350 to 13,270.

Courtney Kerwin,
Acting Director, Collection Strategies Division.

[FR Doc. 2015-22900 Filed 9-10-15; 8:45 am]

BILLING CODE 6560-50-P